DEPARTMENT OF STATE

[Public Notice 5676]

Culturally Significant Objects Imported for Exhibition; Determinations: “Encompassing the Globe: Portugal and the World in the 16th and 17th Centuries”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Encompassing the Globe: Portugal and the World in the 16th and 17th Centuries”, imported from abroad for temporary exhibition within the United States, are of cultural significance. The objects are imported pursuant to loan agreements with the foreign owners or custodians. I also determine that the exhibition or display of the exhibit objects at the Arthur M. Sackler Gallery, Washington, DC, and the National Museum of African Art, Washington, DC, from on or about June 23, 2007, until on or about September 16, 2007, and at possible additional venues yet to be determined, are in the national interest. Public Notice of these Determinations is ordered to be published in the Federal Register

FOR FURTHER INFORMATION CONTACT: For further information, including a list of the exhibit objects, contact Wolodymyr Sulzynsky, Attorney-Adviser, Office of the Legal Adviser, U.S. Department of State (telephone: (202) 453-8050). The address is U.S. Department of State, SA-44, 301 4th Street, SW., Room 700, Washington, DC 20547-0001.

Dated: January 16, 2007.
C. Miller Crouch,
Principal Deputy Assistant Secretary for Educational and Cultural Affairs, Department of State.

[FR Doc. E7-1005 Filed 1-23-07; 8:45 am]

BILLING CODE 4710-05-P